DEPARTMENT OF EDUCATION

Office of Special Education and Rehabilitative Services; List of Correspondence

AGENCY: Department of Education.

ACTION: List of Correspondence from January 1, 2010 through March 31, 2010.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laura Duos or Mary Louise Dirrigl. Telephone: (202) 245-7468.

If you use a telecommunications device for the deaf (TDD), you can call the Federal Relay Service (FRS), toll free, at 1-800-877-8339.

Individuals with disabilities can obtain a copy of this notice in an accessible format (e.g., braille, large print, audiotape, or computer diskette) on request to the contact persons listed under FOR FURTHER INFORMATION CONTACT.

SUPPLEMENTARY INFORMATION: The following list identifies correspondence from the Department issued from January 1, 2010 through March 31, 2010. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 611—Authorization; Allotment; Use of Funds; Authorization of Appropriations

Topic Addressed: State Level Activities

○ Letter dated January 7, 2010 to Arizona Department of Education Deputy Associate Superintendent for Exceptional Student Services Collette E. Chapman, about (1) a State's billing for indirect costs for IDEA American Recovery and Reinvestment Act of 2009 (ARRA) funds retained at the State level and (2) adjustments to the statutory caps on State administration under the IDEA and Title I of the Elementary and Secondary Education Act of 1965, as amended, that help defray the costs of data collection associated with the ARRA.

Section 612—State Eligibility

Topic Addressed: Personnel Qualifications

○ Letter dated January 27, 2010 to New Jersey Speech-Language-Hearing Association School Affairs Chair Sue A. Goldman, clarifying that the IDEA does not permit States to obtain a waiver of State-approved certification requirements for related services providers who currently do not meet State certification requirements but does permit States to use alternate certification routes for such personnel.

Topic Addressed: Maintenance of State Financial Support

○ Letter dated February 12, 2010 to the American Association of School Administrators Deputy Executive Director Bruce Hunter, clarifying that State Fiscal Stabilization Funds under the ARRA may be used, under certain circumstances, to meet Part B of the IDEA State and local maintenance of effort requirements.

Section 614—Evaluations, Eligibility Determinations, Individualized Education Programs, and Educational Placements

Topic Addressed: Evaluation Procedures

○ Letter dated January 13, 2010 to an individual (personally identifiable information redacted) regarding students with high cognition who also require special education and related services under the IDEA.

Topic Addressed: Individualized Education Programs (IEPs)

○ Letter dated January 7, 2010 to Texas attorney Nona Matthews, regarding the requirement to include in a child's IEP information on the frequency, duration, and location of the special education and related services provided to the child.

○ Letter dated January 7, 2010 to educational advocate Dorothy M. Richards, regarding the role of a public agency representative on the IEP Team.

○ Letter dated February 12, 2010 to Alabama attorney James Irby, regarding how an IEP Team could ensure that students with disabilities who need additional reading instruction are not prevented from participating in mandatory physical education instruction.

Section 615—Procedural Safeguards

Topic Addressed: Independent Educational Evaluations

○ Letter dated January 4, 2010 to individuals (personally identifiable information redacted) regarding whether a public agency's procedures relating to a parent's right to obtain an independent educational evaluation at public expense are consistent with the IDEA.

Topic Addressed: Impartial Due Process Hearing

○ Letter dated February 2, 2010 to Miami-Dade County Public Schools Assistant Attorney Mary C. Lawson, clarifying that a local educational agency may not bring an attorney to a resolution meeting if a parent brings an advocate or other qualified representative to the meeting, in lieu of an attorney.

○ Letter dated February 12, 2010 to Alabama attorney James Irby, regarding parent participation at resolution meetings.

Part C—Infants and Toddlers With Disabilities

Section 636—Individualized Family Service Plan

○ Letter dated February 12, 2010 to Florida Department of Health Early Steps Bureau Chief Janice M. Kane, clarifying the relationship of peer-reviewed research to the frequency and intensity of the early intervention services to be included in an infant's or toddler's individualized family service plan.

Other Letters That Do Not Interpret Idea But May Be of Interest to Readers

Topic Addressed: Seclusion and Restraints

○ Letter dated January 26, 2010 to National Leadership Consortium on Developmental Disabilities representative Nancy R. Weiss, regarding the use of seclusion and restraints and other aversive behavioral interventions in schools.

Electronic Access to This Document

You can view this document, as well as all other Department of Education documents published in the Federal Register, in text or Adobe Portable Document Format (PDF) on the Internet at the following site: http://www.ed.gov/news/fedregister/index.html.

To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children With Disabilities)

Dated: September 7, 2010.
Alexa Posny,
Assistant Secretary for Special Education and Rehabilitative Services.

[FR Doc. 2010-22882 Filed 9-13-10; 8:45 am]

BILLING CODE 4000-01-P